NUCLEAR REGULATORY COMMISSION

[Docket Nos. 50-528, 50-529, 50-530, 72-44, 70-27, 50-73, 70-754, 50-255, 72-007, 50-305, 72-64, 70-143, 50-498, 50-499, 72-1041, 50-259, 50-260, 50-296, 72-052, 50-327, 50-328, 72-034, 50-390, 50-391, 72-1048, 50-445, 50-446, and 72-74; NRC-2024-0100]

Issuance of Multiple Exemptions Regarding Security Notifications, Reports, and Recordkeeping

AGENCY: Nuclear Regulatory Commission.

ACTION: Exemptions; issuance.

SUMMARY: The U.S. Nuclear Regulatory Commission (NRC) is issuing a single notice to announce the issuance of 11 exemptions in response to requests from nine licensees. These exemptions were requested as a result of a change to NRC's regulations published in the Federal Register on March 14, 2023.

DATES: During the period from April 1, 2024, to April 30, 2024, the NRC granted 11 exemptions in response to requests submitted by nine licensees from November 14, 2023, to March 21, 2024.

ADDRESSES: Please refer to Docket ID NRC-2024-0100 when contacting the NRC about the availability of information regarding this document. You may obtain publicly available information related to this document using any of the following methods:

• Federal Rulemaking website: Go to https://www.regulations.gov and search for Docket ID NRC-2024-0100. Address questions about Docket IDs in Regulations.gov to Stacy Schumann; telephone: 301-415-0624; email: Stacy.Schumann@nrc.gov. For technical questions, contact the individual listed in the “FOR FURTHER INFORMATION CONTACT” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Ed Miller, Office of Nuclear Reactor Regulation, U.S. Nuclear Regulatory Commission, Washington, DC 20555-0001; telephone: 301-415-2481, email: Ed.Miller@nc.gov.

SUPPLEMENTARY INFORMATION:

I. Introduction

During the period from April 1, 2024, to April 30, 2024, the NRC granted 11 exemptions in response to requests submitted by the following licensees: Arizona Public Service Company; BWXT Nuclear Operations Group, Inc.; GE-Hitachi Nuclear Energy Americas, LLC; Holtec Decommissioning International; Kewaunee Solutions, Inc.; Nuclear Fuel Services, Inc.; South Texas Project Nuclear Operating Company; Tennessee Valley Authority; and Vistra Operations Company, LLC.

These exemptions temporarily allow the licensee to deviate from certain requirements of part 73 of title 10 of the Code of Federal Regulations (10 CFR), “Physical Protection of Plants and Materials,” subpart T, “Security Notifications, Reports, and Recordkeeping.” In support of its exemption requests, the licensees agreed to effect site-specific administrative controls that maintain the approach to complying with 10 CFR part 73 in effect prior to the NRC's issuance of a final rule, “Enhanced Weapons, Firearms Background Checks, and Security Event Notifications,” which was published in the Federal Register on March 14, 2023, and became effective on April 13, 2023 (88 FR 15864).

II. Availability of Documents

The tables in this notice provide transparency regarding the number and type of exemptions the NRC has issued and provide the facility name, docket number, document description, document date, and ADAMS accession number for each exemption issued. Additional details on each exemption issued, including the exemption request submitted by the respective licensee and the NRC's decision, are provided in each exemption approval listed in the following tables. For additional directions on accessing information in ADAMS, see the ADDRESSES section of this document.

Document description | ADAMS Accession No. | Document date
Arizona Public Service Company; Palo Verde Nuclear Generating Station, Units 1, 2, and 3; Docket Nos. 50-528, 50-529, 50-530, and 72-44
Palo Verde Nuclear Generating Station, Units 1, 2, and 3 and Independent Spent Fuel Storage Installation—Request for Exemption from Enhanced Weapons, Firearms Background Checks, and Security Event Notifications Implementation | ML23335A078 | November 30, 2023.
Palo Verde Nuclear Generating Station, Units 1, 2, and 3—Exemption from Select Requirements of 10 CFR part 73 [Security Notifications, Reports, and Recordkeeping and Suspicious Activity Reporting] (EPID L-2023-LLE-0074) | ML24032A154 | April 3, 2024.
BWXT Nuclear Operations Group, Inc.; Docket No. 70-27
BWXT Nuclear Operations Group, Inc.—Lynchburg, Request for Exemption from Security Event Notification and Suspicious Activity Reporting Implementation in Accordance with 10 CFR 73.5 | ML23325A038 | November 16, 2023.
[BWXT Nuclear Operations Group, Inc.]—Response to Request for Additional Information Regarding Submittal for Exemption from Implementation of Security Event Notification and Suspicious Activity Reporting | ML24065A014 | February 29, 2024.
[BWXT Nuclear Operations Group, Inc.]—License Amendment 47—A [Approval of Submittal for Exemption from Implementation of Security Event Notification and Suspicious Activity Reporting (Enterprise Project Identifier L-2023-SPR-0013)] | ML24060A278 (Package) | April 18, 2024.
GE-Hitachi Nuclear Energy Americas, LLC; Vallecitos Nuclear Center; Docket Nos. 50-73 and 70-754
[Vallecitos Nuclear Center]—Request for Exemption from Enhanced Weapons, Firearms Background Checks, and Security Event Notifications Implementation | ML23345A081 | December 11, 2023.
Vallecitos Nuclear Center (VNC) Request for Exemption from Enhanced Weapons, Firearms Background Checks, and Security Event Notifications Implementation | ML24004A163 | January 4, 2024.
[Vallecitos Nuclear Center] GE-Hitachi Nuclear Energy Americas, LLC—Exemption from Select Requirements of 10 CFR part 73 | ML24101A284 (Package) | April 25, 2024.
Holtec Decommissioning International; Palisades Nuclear Plant; Docket Nos. 50-255 and 72-007
[Palisades Nuclear Plant]—Request for Exemption from Enhanced Weapons, Firearms Background Checks, and Security Event Notifications Implementation | ML23340A113 | December 6, 2023.
Palisades Nuclear Plant—Exemption from Select Requirements of 10 CFR part 73 (EPID L-2023-LLE-0078 [Security Notifications, Reports, and Recordkeeping and Suspicious Activity Reporting]) | ML24075A303 | April 19, 2024.
Kewaunee Solutions, Inc.; Kewaunee Power Station; Docket Nos. 50-305 and 72-64
Kewaunee Solutions, Inc.—Request for Exemptions from Enhanced Weapons, Firearms Background Checks, and Security Event Notifications Implementation | ML23332A192 | November 28, 2023.
Kewaunee Solutions Inc.—Exemption from Select Requirements of 10 CFR part 73 ([Security Notifications, Reports, and Recordkeeping and Suspicious Activity Reporting]) [EPID L-2023-LLE-0092] | ML24101A042 | April 19, 2024.
Nuclear Fuel Services, Inc.; Docket No. 70-143
Nuclear Fuel Services, Inc.—Request for Exemption from Enhanced Weapons, Firearms Background Checks, and Security Event Notifications Implementation | ML23341A021 | November 20, 2023.
Nuclear Fuel Services, Inc.—Response to Request for Additional Information Concerning Request for Exemption from Implementation of Security Event Notification and Suspicious Activity Reporting | ML24065A016 | February 19, 2024.
Nuclear Fuel Services SNM-124 Amendment 21—Exemption from Implementation of Security Event Notification and Suspicious Activity Reporting | ML24061A271 (Package) | April 18, 2024.
South Texas Project Nuclear Operating Company; South Texas Project, Units 1 and 2; Docket Nos. 50-498, 50-499, and 72-1041
South Texas Project, Units 1 and 2—Request for Exemption from Enhanced Weapons, Firearms Background Checks, and Security Event Notifications Implementation | ML23324A010 | November 16, 2023.
South Texas Project, Units 1 and 2—Response to Request for Additional Information for Request for Exemption from Enhanced Weapons, Firearms Background Checks, and Security Event Notifications Implementation | ML24081A397 | March 21, 2024.
South Texas Project, Units 1 and 2—Exemption from Select Requirements of 10 CFR part 73 (EPID L-2023-LLE-0046 [Security Notifications, Reports, and Recordkeeping and Suspicious Activity Reporting]) | ML24102A245 | April 23, 2024.
Tennessee Valley Authority; Browns Ferry Nuclear Plant, Units 1, 2, and 3; Docket Nos. 50-259, 50-260, 50-296, and 72-052
Browns Ferry Nuclear Plant, Units 1, 2, and 3—Request for Exemption from Enhanced Weapons, Firearms Background Checks, and Security Event Notifications Implementation | ML23355A206 | December 21, 2023.
[Browns Ferry Nuclear Plant, Units 1, 2, and 3]—Response to Request for Additional Information Regarding Browns Ferry Nuclear Plant, Units 1, 2, and 3, Exemption from Enhanced Weapons, Firearms Background Checks, and Security Event Notifications Implementation (EPID L-2023-LLE-0086) | ML24074A146 | March 14, 2024.
Browns Ferry Nuclear Plant, Units 1, 2, and 3—Exemption from Select Requirements of 10 CFR part 73, Security Notifications, Reports, and Recordkeeping and Suspicious Activity Reporting (EPID L-2023-LLE-0086) | ML24087A230 | April 18, 2024.
Tennessee Valley Authority; Sequoyah Nuclear Plant, Units 1 and 2; Docket Nos. 50-327, 50-328, and 72-034
Sequoyah Nuclear Plant, Units 1 and 2—Request for Exemption from Enhanced Weapons, Firearms Background Checks, and Security Event Notifications Implementation | ML23355A207 | December 21, 2023.
[Sequoyah Nuclear Plant, Units 1 and 2]—Response to Request for Additional Information Regarding Sequoyah Nuclear Plant, Units 1 and 2, Exemption from Enhanced Weapons, Firearms Background Checks, and Security Event Notifications Implementation (EPID L-2023-LLE-0088) | ML24074A181 | March 14, 2024.
Sequoyah Nuclear Plant, Units 1 and 2—Exemption from Select Requirements of 10 CFR part 73, Security Notifications, Reports, and Recordkeeping and Suspicious Activity Reporting (EPID L-2023-LLE-0088) | ML24089A088 | April 18, 2024.
Tennessee Valley Authority; Watts Bar Nuclear Plant, Units 1 and 2; Docket Nos. 50-390, 50-391 and 72-1048
Watts Bar Nuclear Plant, Units 1 and 2—Request for Exemption from Enhanced Weapons, Firearms Background Checks, and Security Event Notifications Implementation | ML23355A208 | December 21, 2023.
[Watts Bar Nuclear Plant, Units 1 and 2]—Response to Request for Additional Information Regarding Watts Bar Nuclear Plant, Units 1 and 2, Exemption from Enhanced Weapons, Firearms Background Checks, and Security Event Notifications Implementation (EPID L-2023-LLE-0087) | ML24074A182 | March 14, 2024.
Watts Bar Nuclear Plant, Units 1 and 2—Exemption from Select Requirements of 10 CFR part 73, Security Notifications, Reports, and Recordkeeping and Suspicious Activity Reporting (EPID L-2023-LLE-0087) | ML24087A191 | April 18, 2024.
Vistra Operations Company, LLC; Comanche Peak Nuclear Power Plant, Unit Nos. 1 and 2; Docket Nos. 50-445, 50-446, and 72-74
Comanche Peak Nuclear Power Plant, [Unit Nos. 1 and 2]—Request for Exemption from Enhanced Weapons, Firearms Background Checks, and Security Event Notifications Implementation | ML23318A471 | November 14, 2023.
Comanche Peak Nuclear Power Plant, [Unit Nos. 1 and 2]—Revised Requested Compliance Date—Request for Exemption from Enhanced Weapons, Firearms Background Checks, and Security Event Notifications Implementation | ML24068A259 | March 7, 2024.
Comanche Peak Nuclear Power Plant, [Unit Nos. 1 and 2]—Exemption from Select Requirements of 10 CFR part 73 (EPID L-2023-LLE-0037 [Security Notifications, Reports, and Recordkeeping and Suspicious Activity Reporting]) | ML24085A225 | April 11, 2024.

Dated: May 16, 2024.
For the Nuclear Regulatory Commission.
Jeffrey A. Whited,
Chief, Plant Licensing Branch 3, Division of Operating Reactor Licensing, Office of Nuclear Reactor Regulation.

[FR Doc. 2024-11194 Filed 5-21-24; 8:45 am]

BILLING CODE 7590-01-P